DEPARTMENT OF COMMERCE

National Oceanic and Atmospheric Administration

[RTID 0648-XD347]

New England Fishery Management Council; Public Meeting

AGENCY: National Marine Fisheries Service (NMFS), National Oceanic and Atmospheric Administration (NOAA), Commerce.

ACTION: Notice of public meeting.

SUMMARY: The New England Fishery Management Council is convening a joint ad-hoc sub-panel of its Scientific and Statistical Committee (SSC) with members of the Mid-Atlantic Fishery Council's SSC to provide the Council with input on methods to designate Essential Fish Habitat and to consider actions affecting New England fisheries in the exclusive economic zone (EEZ). Recommendations from this group will be brought to the full Council for formal consideration and action, if appropriate.

DATES: This webinar will be held on Friday, September 29, 2023, from 1 p.m. to 5 p.m.

ADDRESSES: Webinar registration URL information: https://attendee.gotowebinar.com/register/120656441301753431. Call in information: Phone: +1 (415) 655-0060/Access Code: 596-061-701.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The joint SSC Subpanel, comprised of SSC members from both the New England and Mid-Atlantic Fishery Management Councils, will meet to review methods for designating Essential Fish Habitat (EFH) and Habitat Areas of Particular Concern (HAPC). The review will address the following topics: (1) principles applied to improving EFH and HAPC designations; (2) methods for developing EFH text and maps including application of model-based approaches; (3) methods for identifying HAPC; and (4) recommendations for additional near- or longer-term work that might improve EFH or HAPC designations. The subpanel will provide a report summarizing their input. This input will be provided directly to the Mid-Atlantic Fishery Management Council's EFH Fishery Management Action Team, the New England Fishery Management Council's Habitat Plan Development Team, as well as the New England and Mid-Atlantic Fishery Management Councils. There will be opportunities for public input and comment.

Although non-emergency issues not contained on the agenda may come before this panel for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: September 8, 2023.
Diane M. DeJames-Daly,
Acting Deputy Director, Office of Sustainable Fisheries, National Marine Fisheries Service.

[FR Doc. 2023-19800 Filed 9-12-23; 8:45 am]

BILLING CODE 3510-22-P